DEPARTMENT OF LABOR

Occupational Safety and Health Administration

[Docket No. OSHA—2011-0116]

Federal Advisory Council on Occupational Safety and Health

AGENCY: Occupational Safety and Health Administration (OSHA), Labor.

ACTION: Reopening of the record and extension of the nominations deadline.

SUMMARY: OSHA is reopening the record and extending the deadline for submitting nominations for membership on the Federal Advisory Council on Occupational Safety and Health (FACOSH) until October 31, 2011.

DATES: Nominations for FACOSH must be submitted (postmarked, sent, transmitted, or received) by October 31, 2011.

ADDRESSES: You may submit nominations for FACOSH, identified by Docket No. OSHA-2011-0116, by any one of the following methods:

Electronically: Nominations, including attachments, may be submitted electronically at http://www.regulations.gov, the Federal eRulemaking Portal. Follow the online instructions for submitting nominations;

Facsimile: If the nomination, including attachments, does not exceed 10 pages, you may fax it to the OSHA Docket Office at (202) 693-1648;

Mail, express delivery, hand delivery, messenger or courier service: Submit three copies of nominations and supporting materials to the OSHA Docket Office, Docket No. OSHA-2011-0116, Room N-2625, U.S. Department of Labor, 200 Constitution Avenue, NW., Washington, DC 20210; telephone (202) 693-2350 (TTY number (877) 889-5627). Deliveries (hand, express mail, messenger, and courier service) are accepted during the Department of Labor's and OSHA Docket Office's normal business hours, 8:15 a.m.—4:45 p.m., e.t.

Instructions: All nominations for FACOSH must include the agency name and docket number for this Federal Register notice (Docket No. OSHA-2011-0116). Because of security-related procedures, submitting nominations by regular mail may result in a significant delay in their receipt. Please contact the OSHA Docket Office, at the address above, for information about security procedures for submitting nominations by hand delivery, express delivery, and messenger or courier service. For additional information on submitting nominations, see 76 FR 16897.

Submissions in response to this Federal Register notice, including personal information provided, will be posted without change at http://www.regulations.gov. Therefore, OSHA cautions interested parties about submitting personal information such as social security numbers and birth dates.

Electronic copies of this Federal Register notice as well as OSHA's July 7, 2011 notice requesting nominations for FACOSH membership are available at http://www.regulations.gov. Both notices, as well as news releases and other relevant information, are also available on OSHA's webpage at http://www.osha.gov.

FOR FURTHER INFORMATION CONTACT: For press inquiries: Mr. Francis Meilinger, OSHA, Office of Communications, Room N-3647, U.S. Department of Labor, 200 Constitution Avenue, NW., Washington, DC 20210; telephone (202) 693-1999.

For general information: Mr. Francis Yebesi, OSHA, Office of Federal Agency Programs, Directorate of Enforcement Programs, Room N-3622, U.S. Department of Labor, 200 Constitution Avenue, NW., Washington, DC 20210; telephone (202) 693-2122; e-mail ofap@dol.gov.

SUPPLEMENTARY INFORMATION: OSHA is reopening the record and extending the deadline for submitting nominations for membership on FACOSH until October 31, 2011. OSHA is extending the FACOSH nominations deadline because of a lack of qualified candidates being nominated for FACOSH membership. For instructions and information about submitting nominations, see 76 FR 16897.

On July 7, 2011, OSHA published a Federal Register notice inviting interested parties to submit nominations for FACOSH membership by September 6, 2011 (76 FR 16897). OSHA requests nominations to fill six vacancies on FACOSH, three labor and three management members. One vacancy occurred during CY 2010 and five vacancies will occur in CY 2011. The Secretary of Labor will appoint new members to three-year terms.

FACOSH is authorized to advise the Secretary of Labor on all matters relating to the occupational safety and health of Federal employees (Occupational Safety and Health Act of 1970 (29 U.S.C. 668), 5 U.S.C. 7902, Executive Orders 12196 and 13511). This includes providing advice on how to reduce and keep to a minimum the number of injuries and illnesses in the Federal workforce and how to encourage the establishment and maintenance of effective occupational safety and health programs in each Federal department and agency.

Authority and Signature:

David Michaels, Ph.D., MPH, Assistant Secretary of Labor for Occupational Safety and Health, directed the preparation of this notice under the authority granted by section 19 of the Occupational Safety and Health Act of 1970 (29 U.S.C. 668), 5 U.S.C. 7902, the Federal Advisory Committee Act (5 U.S.C. App), Executive Order 12196 and 13511, 29 CFR part 1960 (Basic Program Elements for Federal Employee Occupational Safety and Health Programs and Related Matters), 41 CFR part 102-3, Secretary of Labor's Order 4-2010 (75 FR 55355, 9/10/2010).

Signed at Washington, DC on September 26, 2011.
David Michaels,
Assistant Secretary of Labor for Occupational Safety and Health.

[FR Doc. 2011-25042 Filed 9-28-11; 8:45 am]

BILLING CODE 4510-26-P